DEPARTMENT OF HEALTH AND HUMAN SERVICES

Centers for Disease Control and Prevention

Health Resources and Services Administration; CDC/HRSA Advisory Committee on HIV and STD Prevention and Treatment

In accordance with section l0(a)(2) of the Federal Advisory Committee Act (Pub. L. 92-463), CDC and HRSA announce the following meeting of the aforementioned committee:

Times and Dates:

8 a.m.-5:30 p.m., November 2, 2009.

8 a.m.-3 p.m., November 3, 2009.

Place: Hyatt Regency Bethesda, 7400 Wisconsin Avenue (One Bethesda Metro Center), Bethesda, Maryland 20814, Telephone: (301) 657-1234.

Status: Open to the public, limited only by the space available. The meeting room will accommodate approximately 100 people.

Purpose: This Committee is charged with advising the Director, CDC, and the Administrator, HRSA, regarding activities related to prevention and control of HIV/AIDS and other STDs, the support of health care services to persons living with HIV/AIDS, and education of health professionals and the public about HIV/AIDS and other STDs.

Matters to be Discussed: Agenda items include issues pertaining to: (1) HIV/STD/HCV Prevention, Treatment and Care in Federally Qualified Health Centers; (2) Biomedical Approaches to HIV Prevention—Pre-Exposure Prophylaxis; (3) Federal Adolescent Sexual Health Education Initiatives; and (4) Role of Surveillance in Informing CDC and HRSA Activities.

Agenda items are subject to change as priorities dictate.

Contact Person for More Information: Margie Scott-Cseh, Coordinating Center for Infectious Diseases, Strategic Business Unit, CDC, 1600 Clifton Road, NE., Mailstop E-07, Atlanta, Georgia 30333, Telephone: (404) 639-8317.

The Director, Management Analysis and Services Office, has been delegated the authority to sign Federal Register Notices pertaining to announcements of meetings and other committee management activities, for both the CDC and the Agency for Toxic Substances and Disease Registry.

Dated: October 8, 2009.
Andre Tyler,
Acting Director, Management Analysis and Services Office, Centers for Disease Control and Prevention.

[FR Doc. E9-24934 Filed 10-15-09; 8:45 am]

BILLING CODE 4163-18-P